DEPARTMENT OF STATE

[Public Notice 5663]

Announcement of Meetings of the International Telecommunication Advisory Committee

SUMMARY: This notice announces meetings of the International Telecommunication Advisory Committee (ITAC) to prepare advice on U.S. positions for the International Telecommunication Union's Telecommunication Standardization Sector Study Group 3 (Tariff and accounting principles including related telecommunication economic and policy issues), the Organization of American States Inter-American Telecommunications Commission's Permanent Consultative Committee I (Telecommunications), and a standing electronic mail meeting preparing advice for ITU Radiocommunication Sector meetings.

The ITAC will meet on February 8 and 22 and March 8, 2007, all meetings from 2 p.m.-4 p.m. to prepare advice on U.S. positions to be taken at ITU-T Study Group 3. Location of these meetings may be obtained by calling the Secretariat below.

The ITAC will meet on February 13, 2007 from 10 a.m. to noon, and February 20 and March 13, 2007 both from 2 p.m.-4 p.m. to prepare advice on U.S. positions to be taken at the OAS CITEL PCC.I. Location of these meetings may be obtained by calling the Secretariat below.

The International Telecommunication Advisory Committee (ITAC) will meet to prepare for various ITU-R Study Group meetings continuously by e-mail through the end of July 2007. People desiring to participate in this activity should contact the Secretariat at minardje@state.gov or 202 647-3234 for directions.

These meetings are open to the public. Further information may be obtained from the Secretariat minardje@state.gov, telephone 202 647-3234.

Dated: January 4, 2007.
Anne D. Jillson,
Foreign Affairs Officer, International Communications & Information Policy, Multilateral Affairs, Department of State.

[FR Doc. E7-257 Filed 1-10-07; 8:45 am]

BILLING CODE 4710-07-P